DEPARTMENT OF DEFENSE

Department of the Air Force

Proposed Collection, Comment Request

AGENCY: Department of the Air Force, DoD.

ACTION: Notice.

In compliance with Section 3506(c)(2)(A) of the Paperwork Reduction Act of 1995, the Headquarters Air Force Recruiting Service announces the proposed extension of a currently approved public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 5, 2000.

ADDRESSES: Written comments and recommendations on the proposed information collection should be sent to Department of Defense, HQ AFRS/RSOP, 550 D Street West, Suite 1, Randolph AFB, TX 78150-4527.

FOR FURTHER INFORMATION CONTACT: To request more information on this proposed information collection or to obtain a copy of the proposal and associated collection instruments, please write to the above address, or call Headquarters AFRS/RSOP, Enlisted Accessions Branch, at (210) 652-6188.

Title, Associated Form, and OMB Number: Non-Prior Service and Prior Service Accessions, AETC Forms 1319, 1325, and 1419 and OMB Number 0701-0079.

Needs and Uses: The information collection requirement is necessary for recruiters to determine applicant qualifications when conducting an interview. Information from the interview will determine if additional documents on law violations, citizenship verification, and education are needed. Applicants who have reached a certain age, marital status or classification are required to submit financial information.

Affected Public: Individuals or households.

Annual Burden Hours: 69,105.

Number of Respondents: 110,231.

Responses Per Respondent: 1.

Average Burden Per Response: 1.05 hours.

Frequency: On occasion.

SUPPLEMENTARY INFORMATION:

Summary of Information Collection

Respondents are civilian non-prior and prior service personnel applying for enlistment into the Air Force as enlisted members. The completed forms are used by the recruiter to establish eligibility status of applicants and determine what additional forms are needed to obtain the required information. If the forms are not included in the case file, individuals reviewing the file cannot be readily assured of the qualifications of the applicant.

Janet A. Long,
Air Force Federal Register Liaison Officer.

[FR Doc. 00-17213 Filed 7-6-00; 8:45 am]

BILLING CODE 5001-05-P